DEPARTMENT OF DEFENSE

Department of the Army

[Docket ID USA-2014-0045]

Proposed Collection; Comment Request

AGENCY: U.S. Army Combat Readiness/Safety Center, DoD.

ACTION: Notice.

SUMMARY: In compliance with the Paperwork Reduction Act of 1995, the U.S. Army Combat Readiness/Safety Center, Fort Rucker, AL announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 6, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the U.S. Army Combat Readiness/Safety Center, Building 4905 Ruf Avenue, Fort Rucker, AL 36362, ATTN: MAJ Jennifer Farmer, Fort Rucker, AL at 334-255-2924.

SUPPLEMENTARY INFORMATION: Title; Associated Form; and OMB Number: Army Safety Management Information System (ASMIS); OMB Number 0702-XXXX.

Needs and Uses: The information collection requirement is necessary to monitor and facilitate the U.S. Army's safety programs; to analyze accident experience and exposure information; to analyze and correlate relationships between planned actions and resultant accidents; and to support the Army's accident prevention efforts.

Affected Public: Individuals or Households.

Annual Burden Hours: 338.

Number of Respondents: 450.

Responses per Respondent: 1.

Average Burden per Response: 45 minutes.

Frequency: On occasion.

U.S. Army Safety Center personnel retrieve data from accident prevention studies by name, Social Security Number (SSN), age, or gender. Accident and incident case records are retrieved by date of incident, location of incident, or type of equipment involved. Paper records are maintained in locked file cabinets and information is accessible only by authorized personnel with appropriate clearance/access in the performance of their duty. Remote terminal access is only authorized by authorized personnel. Maintaining this accident data is critical in maintaining the integrity of the accident prevention process.

Dated: December 3, 2014.
Aaron Siegel,
Alternate OSD Federal Register Liaison Officer, Department of Defense.

[FR Doc. 2014-28671 Filed 12-5-14; 8:45 am]

BILLING CODE 5001-06-P